DEPARTMENT OF COMMERCE

International Trade Administration

[A-122-863]

Large Diameter Welded Pipe From Canada: Amended Final Results of Antidumping Duty Administrative Review; 2018-2020

AGENCY: Enforcement and Compliance, International Trade Administration, Department of Commerce.

SUMMARY: The Department of Commerce (Commerce) is amending the final results of the administrative review of the antidumping duty order on large diameter welded pipe from Canada to correct ministerial errors. The period of review (POR) is August 27, 2018, through April 30, 2020.

DATES: Applicable March 11, 2022.

FOR FURTHER INFORMATION CONTACT: Irene Gorelik, AD/CVD Operations, Office VIII, Enforcement and Compliance, International Trade Administration, U.S. Department of Commerce, 1401 Constitution Avenue NW, Washington, DC 20230; telephone: (202) 482-6905.

SUPPLEMENTARY INFORMATION:

Background

On January 31, 2022, Commerce disclosed its calculations for the Final Results ¹ to interested parties and provided interested parties with the opportunity to allege ministerial errors.² On February 7, 2022, Evraz Inc. NA (Evraz), the sole mandatory respondent, submitted an allegation of ministerial errors in the Final Results.³ No other party made an allegation of ministerial errors. On February 11, 2022, the American Line Pipe Producers Association (ALPPA), a domestic interested party, rebutted Evraz's ministerial error allegation.⁴

¹ See Large Diameter Welded Pipe from Canada: Final Results of Antidumping Duty Administrative Review and Final Determination of No Shipments; 2018-2020, 87 FR 6497 (February 4, 2022) (Final Results), and accompanying Issues and Decision Memorandum (IDM).

² See Memorandum, “Deadline for Ministerial Error Comments for the Final Results,” dated February 1, 2022.

³ See Evraz's Letter, “Ministerial Error Comments,” dated February 7, 2022.

⁴ See ALPPA Letter, “Response to Evraz's Ministerial Error Allegation,” dated February 11, 2022.

Legal Framework

Section 751(h) of the Tariff Act of 1930, as amended (the Act), defines a “ministerial error” as including “errors in addition, subtraction, or other arithmetic function, clerical errors resulting from inaccurate copying, duplication, or the like, and any other unintentional error which the administering authority considers ministerial.” With respect to final results of administrative reviews, 19 CFR 351.224(e) provides that Commerce “will analyze any comments received and, if appropriate, correct any ministerial error by amending . . . the final results of review . . .”

Ministerial Error

We agree with Evraz that Commerce made a ministerial error in the Final Results within the meaning of section 751(h) of the Act and 19 CFR 351.224(f). In the Final Results, we intended to offset Evraz's reported section 232 duty expense by the reported section 232 duty revenue capped at the amount of the expense and to deduct the net amount from the export price as a movement expense.⁵ However, in calculating the offset, we unintentionally used an erroneous capping formula. Accordingly, Commerce determines that it made a ministerial error in the Final Results pursuant to section 751(h) of the Act and 19 CFR 351.224(f) and has amended its calculations to apply the intended capping formula.

⁵ See Final Results IDM at Comment 6.

For a complete discussion of the ministerial error allegation, as well as Commerce's analysis, see the accompanying Ministerial Error Memorandum.⁶ The Ministerial Error Memorandum is a public document and is on file electronically via Enforcement and Compliance's Antidumping and Countervailing Duty Centralized Electronic Service System (ACCESS). ACCESS is available to registered users at https://access.trade.gov.

⁶ See Memorandum, “Administrative Review of the Antidumping Duty Order on Large Diameter Welded Pipe from Canada; 2018-2020: Ministerial Error Allegation in the Final Results,” dated concurrently with this notice (Ministerial Error Memorandum).

Pursuant to 19 CFR 351.224(e), Commerce is amending the Final Results to reflect the correction of this ministerial error in the calculation of the weighted-average dumping margin assigned to Evraz in the Final Results, which changes from 15.29 percent to 7.90 percent. Furthermore, we are also revising the review-specific weighted-average dumping margin assigned to the non-examined companies under review, which is equal to Evraz's weighted-average dumping margin, consistent with the Final Results.

Amended Final Results

As a result of correcting the ministerial error, Commerce determines that the following weighted-average dumping margins exist for the period August 27, 2018, through April 30, 2020:

⁷ In the underlying less-than-fair-value (LTFV) investigation, Commerce determined that Evraz Inc. NA, Evraz Inc. NA Canada, and the Canadian National Steel Corporation (collectively, Evraz) comprise a single entity. See Large Diameter Welded Pipe from Canada: Antidumping Duty Order, 84 FR 18775 (May 2, 2019) (Order). There is no information on this record of this review that requires reconsideration of this single entity determination.

⁸ See Appendix.

Exporter or producer | Weighted- average dumping margin (percent)
Evraz Inc. NA ⁷ | 7.90
Non-Examined Companies ⁸ | 7.90

Disclosure

We intend to disclose under administrative protective order the calculations performed to parties in this proceeding within five days after publication of these amended final results in the Federal Register, in accordance with 19 CFR 351.224(b).

Assessment Rates

Pursuant to section 751(a)(2)(C) of the Act and 19 CFR 351.212(b), Commerce has determined, and U.S. Customs and Border Protection (CBP) shall assess, antidumping duties on all appropriate entries of subject merchandise in accordance with these amended final results of review. Commerce intends to issue assessment instructions to CBP no earlier than 41 days after the date of publication of the amended final results of this review in the Federal Register, in accordance with 19 CFR 356.8(a).

Pursuant to 19 CFR 351.212(b)(1), we calculated importer-specific ad valorem duty assessment rates based on the ratio of the total amount of dumping calculated for the examined sales to the total entered value of the sales for which entered value was reported. Where an importer-specific assessment rate is zero or de minimis, we will instruct CBP to liquidate the appropriate entries without regard to antidumping duties.

Commerce's “automatic assessment” practice will apply to entries of subject merchandise during the POR produced by Evraz for which the company did not know that the merchandise it sold to the intermediary (e.g., a reseller, trading company, or exporter) was destined for the United States. In such instances, we will instruct CBP to liquidate unreviewed entries at the all-others rate if there is no rate for the intermediate company(ies) involved in the transaction.⁹

⁹ For a full discussion of this practice, see Antidumping and Countervailing Duty Proceedings: Assessment of Antidumping Duties, 68 FR 23954 (May 6, 2003).

For the companies which were not selected for individual examination, we intend to direct CBP to assess antidumping duties at a rate equal to the weighted-average dumping margin determined for those companies in the amended final results.

Cash Deposit Requirements

The following deposit requirements will be effective for all shipments of the subject merchandise entered, or withdrawn from warehouse, for consumption on or after the publication date of the final results of this administrative review, as provided by section 751(a)(2)(C) of the Act: (1) The cash deposit rate for the companies listed above will be equal to the weighted-average dumping margin that is established in the final results of this review, except if the rate is less than 0.50 percent and, therefore, de minimis within the meaning of 19 CFR 351.106(c)(1), in which case the cash deposit rate will be zero; (2) for previously investigated or reviewed companies not subject to this review, the cash deposit rate will continue to be the company-specific rate published for the most recently completed segment of this proceeding in which the company participated; (3) if the exporter is not a firm covered in this review, a prior review, or the original less-than-fair-value (LTFV) investigation, but the producer is, the cash deposit rate will be the rate established for the most recently completed segment of the proceeding for the producer of the merchandise; and (4) the cash deposit rate for all other producers and exporters will continue to be 12.32 percent ad valorem, the all-others rate established in the LTFV investigation.¹⁰

¹⁰ See Order.

These cash deposit requirements, when imposed, shall remain in effect until further notice.

Notification to Importers Regarding the Reimbursement of Duties

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(h) and 777(i)(1) of the Act, and 19 CFR 351.224(e).

Dated: March 4, 2022.
Lisa W. Wang,
Assistant Secretary for Enforcement and Compliance.

Appendix

Review-Specific Rate Applicable to Companies Not Selected for Individual Examination

1. Acier Profile SBB Inc

2. Aciers Lague Steels Inc

3. Amdor Inc

4. BPC Services Group

5. Bri-Steel Manufacturing

6. Canada Culvert

7. Cappco Tubular Products Canada Inc

8. CFI Metal Inc

9. Dominion Pipe & Piling

10. Enduro Canada Pipeline Services

11. Fi Oilfield Services Canada

12. Forterra

13. Gchem Ltd

14. Graham Construction

15. Groupe Fordia Inc

16. Grupo Fordia Inc

17. Hodgson Custom Rolling

18. Hyprescon Inc

19. Interpipe Inc

20. K K Recycling Services

21. Kobelt Manufacturing Co

22. Labrie Environment

23. Les Aciers Sofatec

24. Lorenz Conveying P

25. Lorenz Conveying Products

26. Matrix Manufacturing

27. MBI Produits De Forge

28. Nor Arc

29. Peak Drilling Ltd

30. Pipe & Piling Sply Ltd

31. Pipe & Piling Supplies

32. Prudental

33. Prudential

34. Shaw Pipe Protecction

35. Shaw Pipe Protection

36. Tenaris Algoma Tubes Facility

37. Tenaris Prudential

38. Welded Tube of Can Ltd

[FR Doc. 2022-05208 Filed 3-10-22; 8:45 am]

BILLING CODE 3510-DS-P